Title 3—

The President

Proclamation 8325 of November 26, 2008

World Aids Day, 2008

By the President of the United States of America

A Proclamation

As Americans, we believe in the inherent dignity and value of every man, woman, and child. On World AIDS Day, we recommit ourselves to the global challenge of combating the HIV/AIDS pandemic, and to showing our compassion for those affected here at home and around the world.

The fight against HIV/AIDS is a noble and necessary battle. As part of this fight, in 2003 my Administration launched the President's Emergency Plan for AIDS Relief (PEPFAR). Through this program, the United States has partnered with other countries, local communities, and faith-based organizations around the world to support HIV/AIDS treatment, care, and prevention activities. In July 2008, we worked with the Congress to reauthorize this important program for another 5 years.

PEPFAR is the largest international commitment in history by any nation to combat a single disease, and so far the results are promising. PEPFAR has supported care for millions of people around the world. We have also made great strides in the fight against HIV/AIDS through PEPFAR's commitment to evidence-based prevention interventions, including the ABC approach: abstinence, be faithful, and correct and consistent condom use. PEPFAR is spreading hope around the world by saving lives and showing the good heart of our Nation.

To advance our domestic battle against HIV/AIDS, we must continue to research and develop new methods of treatment and prevention. In 2006, the Congress reauthorized the Ryan White CARE Act. This legislation also focuses on life-saving and life-extending services, increased accountability for funding, and supports HIV testing to prevent the further spread of this disease.

NOW, THEREFORE, I, GEORGE W. BUSH, President of the United States of America, by virtue of the authority vested in me by the Constitution and laws of the United States, do hereby proclaim December 1, 2008, as World AIDS Day. On this day and throughout the year, the red ribbon is a symbol that helps raise awareness of the importance of fighting against HIV/AIDS. Again this year, the White House will display the red ribbon from the North Portico to represent America's commitment to this struggle. I urge the Governors of the States and the Commonwealth of Puerto Rico, officials of the other territories subject to the jurisdiction of the United States, and the American people to join me in appropriate activities to remember those who have lost their lives to AIDS and provide support and comfort to those living with this disease.

IN WITNESS WHEREOF, I have hereunto set my hand this twenty-sixth day of November, in the year of our Lord two thousand eight, and of the Independence of the United States of America the two hundred and thirty-third.

[FR Doc. E8-28691

Filed 12-1-08; 8:45 am]

Billing code 3195-W9-P